DEPARTMENT OF THE TREASURY

Office of Foreign Assets Control

Sanctions Action Pursuant to Executive Order 13067 and Executive Order 13412

AGENCY: Office of Foreign Assets Control, Treasury.

ACTION: Notice.

SUMMARY: The Department of the Treasury's Office of Foreign Assets Control (OFAC) has removed from the Specially Designated Nationals and Blocked Persons List (SDN List) the names of persons whose property and interests in property had been blocked pursuant to Sudan sanctions authorities.

DATES: OFAC's action described in this notice was taken on October 12, 2017.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's Web site (www.treasury.gov/ofac).

Notice of OFAC Action(s)

Effective October 12, 2017, sections 1 and 2 of Executive Order (E.O.) 13067 of November 3, 1997, “Blocking Sudanese Government Property and Prohibiting Transactions With Sudan” and all of E.O. 13412 of October 13, 2006, “Blocking Property of and Prohibiting Transactions With the Government of Sudan” were revoked, pursuant to E.O. 13761 of January 13, 2017, “Recognizing Positive Actions by the Government of Sudan and Providing for the Revocation of Certain Sudan-Related Sanctions,” as amended by E.O. 13804 of July 11, 2017, “Allowing Additional Time for Recognizing Positive Actions by the Government of Sudan and Amending Executive Order 13761.”

Sections 1 and 2 of E.O. 13067 and E.O. 13412 blocked the property of the Government of Sudan and generally prohibited U.S. persons from engaging in transactions with Sudan and the Government of Sudan. As a result of the revocation of these sanctions provisions, effective October 12, 2017, the individuals and entities listed below are no longer subject to the blocking provisions in E.O. 13067 and E.O. 13412, and therefore were removed from the SDN List.

Entities

1. ACCOUNTS & ELECTRONICS EQUIPMENTS (a.k.a. ACCOUNTS AND ELECTRONICS EQUIPMENTS), P.O. Box 97, Khartoum, Sudan; c/o ENGINEERING EQUIPMENT CORPORATION, undetermined [SUDAN].

2. ADVANCED ENGINEERING WORKS, Street No. 53, P.O. Box 44690, Khartoum, Sudan [SUDAN].

3. ADVANCED MINING WORKS COMPANY LIMITED, Elmek Nimir Street, Khartoum Bahri/Industrial Area, P.O. Box 1034, Khartoum 11, Sudan; Email Address admico@sudanmail.net [SUDAN].

4. ADVANCED PETROLEUM COMPANY (a.k.a. APCO), House No. 10, Block 9, Street 33, Amarat, P.O. Box 12811, Khartoum, Sudan [SUDAN].

5. ADVANCED TRADING AND CHEMICAL WORKS COMPANY LIMITED (a.k.a. ADVANCED CHEMICAL WORKS; a.k.a. ADVANCED COMMERCIAL AND CHEMICAL WORKS COMPANY LIMITED), 19 Al Amarat Street, P.O. Box 44690, Khartoum, Sudan; Email Address advance@sudanmail.net; Email Address accw@htg-sdn.com [SUDAN].

6. AFRICAN DRILLING COMPANY, Khartoum, Sudan [SUDAN].

7. AFRICAN OIL CORPORATION, P.O. Box 1, Khartoum North, Sudan [SUDAN].

8. AGRICULTURAL BANK OF SUDAN, P.O. Box 1363, Khartoum, Sudan [SUDAN].

9. AL SUNUT DEVELOPMENT COMPANY (a.k.a. ALSUNUT DEVELOPMENT COMPANY), No. 1 Block 5 East, Khartoum 2, P.O. Box 1840, Khartoum, Sudan; Web site www.alsunut.com; Email Address info.AlsunutKhartoum@alsunut.com; Email Address info.AlsunutDubai@alsunut.com [SUDAN].

10. ALAKTAN COTTON TRADING COMPANY (a.k.a. ALAKTAN TRADING COMPANY), P.O. Box 2067, Khartoum, Sudan [SUDAN].

11. ALFARACHEM COMPANY LIMITED (a.k.a. AL PHARAKIM; a.k.a. ALFARACHEM PHARMACEUTICALS INDUSTRIES LIMITED; a.k.a. ALFARAKIM), 27 Al Amarat Street, Khartoum, Sudan [SUDAN].

12. AMIN EL GEZAI COMPANY (a.k.a. EL AMIN EL GEZAI COMPANY), Khartoum, Sudan [SUDAN].

13. ARAB CEMENT COMPANY, Durdeib, Sudan; P.O. Box 6180, Khartoum, Sudan [SUDAN].

14. ARAB SUDANESE BLUE NILE AGRICULTURAL COMPANY, Khartoum, Sudan [SUDAN].

15. ARAB SUDANESE SEED COMPANY, Khartoum, Sudan [SUDAN].

16. ARAB SUDANESE VEGETABLE OIL COMPANY, Khartoum, Sudan [SUDAN].

17. ASSALAYA SUGAR COMPANY LIMITED, Eastern Bank of White Nile River, near Rabak town (about 300 km from Khartoum, P.O. Box 511, Khartoum, Sudan [SUDAN].

18. AUTOMOBILE CORPORATION, Khartoum, Sudan [SUDAN].

19. BABANOUSA MILK PRODUCTS FACTORY, P.O. Box 16, Babanousa, Sudan [SUDAN].

20. BANK OF SUDAN, Sharia El Gamaa, P.O. Box 313, Khartoum, Sudan; Atbara, Sudan; P.O. Box 27, El Obeid, Sudan; P.O. Box 136, Juba, Sudan; P.O. Box 73, Kosti, Sudan; Nyala, Sudan; P.O. Box 34, Port Sudan, Sudan; Wad Medani, Sudan; Wau, Sudan [SUDAN].

21. BASHAIER, Khartoum, Sudan [SUDAN].

22. BLUE NILE BREWERY, P.O. Box 1408, Khartoum, Sudan [SUDAN].

23. BLUE NILE PACKING CORPORATION, P.O. Box 385, Khartoum, Sudan [SUDAN].

24. BUILDING MATERIALS AND REFRACTORIES CORPORATION, P.O. Box 2241, Khartoum, Sudan [SUDAN].

25. COPTRADE COMPANY LIMITED—PHARMACEUTICAL AND CHEMICAL DIVISION, P.O. Box 246, Khartoum, Sudan; Port Sudan, Sudan [SUDAN].

26. COPTRADE ENG AND AUTOMOBILE SERVICES CO LTD. (f.k.a. KORDOFAN AUTOMOBILE COMPANY), P.O. Box 97, Khartoum, Sudan [SUDAN].

27. DUTY FREE SHOPS CORPORATION, P.O. Box 1789, Khartoum, Sudan [SUDAN].

28. EL GEZIRA AUTOMOBILE COMPANY (a.k.a. GEZIRA AUTOMOBILE COMPANY), P.O. Box 232, Khartoum, Sudan [SUDAN].

29. EL NILEIN BANK (n.k.a. EL NILEIN INDUSTRIAL DEVELOPMENT BANK (SUDAN); n.k.a. EL NILEIN INDUSTRIAL DEVELOPMENT BANK GROUP; n.k.a. NILEIN INDUSTRIAL DEVELOPMENT BANK (SUDAN)), Parliament Street, P.O. Box 466, Khartoum, Sudan; P.O. Box 6013, Abu Dhabi City, United Arab Emirates; P.O. Box 466/1722, United Nations Square, Khartoum, Sudan [SUDAN].

30. EL TAKA AUTOMOBILE COMPANY (a.k.a. TAKA AUTOMOBILE COMPANY), P.O. Box 221, Khartoum, Sudan [SUDAN].

31. EMIRATES AND SUDAN INVESTMENT COMPANY LIMITED, P.O. Box 7036, Khartoum, Sudan; Port Sudan, Sudan [SUDAN].

32. ENGINEERING EQUIPMENT COMPANY, P.O. Box 97, Khartoum, Sudan; c/o ENGINEERING EQUIPMENT CORPORATION, undetermined [SUDAN].

33. ENGINEERING EQUIPMENT CORPORATION, P.O. Box 97, Khartoum, Sudan [SUDAN].

34. EXPLORATION AND PRODUCTION AUTHORITY (SUDAN), Kuwait Building, Nile Avenue, Khartoum, Sudan; P.O. Box 2986, Khartoum, Sudan [SUDAN].

35. FOOD INDUSTRIES CORPORATION, P.O. Box 2341, Khartoum, Sudan [SUDAN].

36. FRIENDSHIP SPINNING FACTORY, Hassaheisa, Sudan [SUDAN].

37. GEZIRA TANNERY, Gezira, Sudan [SUDAN].

38. GEZIRA TRADE & SERVICES COMPANY LIMITED (a.k.a. GEZIRA TRADE AND SERVICES COMPANY LIMITED), P.O. Box 215, Khartoum, Sudan; P.O. Box 17, Port Sudan, Sudan; El Obeid, Sudan; Gedarit, Sudan; Juba, Sudan; Kosti, Sudan; Sennar, Sudan; Wad Medani, Sudan [SUDAN].

39. GIAD AUTOMOTIVE INDUSTRY COMPANY LIMITED (a.k.a. GIAD AUTOMOTIVE AND TRUCK; a.k.a. GIAD AUTOMOTIVE COMPANY; a.k.a. GIAD CARS & HEAVY TRUCKS COMPANY; a.k.a. GIAD CARS AND HEAVY TRUCKS COMPANY), Gazera State (40 km distance from Khartoum), P.O. Box 444/13600, Khartoum 1111, Sudan; Web site www.giadmotors.com/giad_auto.html [SUDAN].

40. GIAD MOTOR INDUSTRY COMPANY LIMITED (a.k.a. GIAD MOTOR COMPANY), Basheer Mohammad Saeed Building, Baladia Street, P.O. Box 13610, Khartoum, Sudan; Web site www.giadmotors.com [SUDAN].

41. GINEID SUGAR FACTORY, P.O. Box 1, Gineid, Sudan [SUDAN].

42. GREATER NILE PETROLEUM OPERATING COMPANY LIMITED (a.k.a. GNPOC), Hotel Palace, Room 420, El Nil Avenue, Khartoum, Sudan; El Harr Oilfield, Muglad Basin, Sudan; El Nar Oilfield, Muglad Basin, Sudan; El Toor Oilfield, Muglad Basin, Sudan; Heglig Oilfield, Muglad Basin, Sudan; Heglig Processing Facility, Muglad Basin, Sudan; Kaikang Oilfield, Muglad Basin, Sudan; Toma South Oilfield, Muglad Basin, Sudan; Unity Oilfield, Muglad Basin, Sudan; Pipeline, Heglig via El-Obeid to Port Sudan, Sudan; Red Sea Export Terminal, Marsa al-Basha'ir, Sudan [SUDAN].

43. GROUPED INDUSTRIES CORPORATION, P.O. Box 2241, Khartoum, Sudan [SUDAN].

44. GUNEID SUGAR COMPANY LIMITED (a.k.a. GUNEID SUGAR FACTORY), P.O. Box 511, Khartoum, Sudan [SUDAN].

45. HAGGAR ASSALAYA SUGAR FACTORY, Haggar Assalaya, Sudan [SUDAN].

46. HI TECH GROUP (a.k.a. HIGH TECH GROUP; a.k.a. HIGHTECH GROUP; a.k.a. HITECH GROUP), Amarat Street No. 31, P.O. Box 44690, Khartoum, Sudan; Web site www.htg-sdn.com [SUDAN].

47. HICOM (a.k.a. HI-COM), Khartoum, Sudan [SUDAN].

48. HICONSULT (a.k.a. HI-CONSULT), Khartoum, Sudan [SUDAN].

49. HI-TECH CHEMICALS, Khartoum, Sudan [SUDAN].

50. HI-TECH PETROLEUM GROUP, Khartoum, Sudan [SUDAN].

51. ICDB (a.k.a. ISLAMIC CO-OPERATIVE DEVELOPMENT BANK), P.O. Box 62, Khartoum, Sudan [SUDAN].

52. INDUSTRIAL BANK COMPANY FOR TRADE & DEVELOPMENT LIMITED (a.k.a. INDUSTRIAL BANK COMPANY FOR TRADE & DEVELOPMENT LIMITED), Khartoum, Sudan [SUDAN].

53. INDUSTRIAL BANK OF SUDAN (n.k.a. EL NILEIN INDUSTRIAL DEVELOPMENT BANK GROUP), United Nations Square, P.O. Box 1722, Khartoum, Sudan [SUDAN].

54. INDUSTRIAL PRODUCTION CORPORATION, P.O. Box 1034, El Gamaa Street, Khartoum, Sudan [SUDAN].

55. INDUSTRIAL RESEARCH AND CONSULTANCY INSTITUTE, P.O. Box 268, Khartoum, Sudan [SUDAN].

56. INGASSANA MINES HILLS CORPORATION (a.k.a. INGESSANA HILLS MINES CORPORATION), P.O. Box 2241, Khartoum, Sudan; P.O. Box 1108, Khartoum, Sudan [SUDAN].

57. JUBA DUTY FREE SHOP, Juba, Sudan [SUDAN].

58. KARIMA DATE FACTORY, Karima, Sudan [SUDAN].

59. KARIMA FRUIT AND VEGETABLE CANNING FACTORY, P.O. Box 54, Karima, Sudan [SUDAN].

60. KASSALA FRUIT PROCESSING COMPANY, Khartoum, Sudan [SUDAN].

61. KASSALA ONION DEHYDRATION FACTORY, P.O. Box 22, Kassala, Sudan [SUDAN].

62. KENAF SOCKS FACTORY, Abu Naama, Sudan [SUDAN].

63. KHARTOUM CENTRAL FOUNDRY, Khartoum, Sudan [SUDAN].

64. KHARTOUM COMMERCIAL AND SHIPPING COMPANY LIMITED, Kasr Avenue, P.O. Box 221, Khartoum, Sudan [SUDAN].

65. KHARTOUM TANNERY, P.O. Box 134, Khartoum South, Sudan [SUDAN].

66. KHOR OMER ENGINEERING COMPANY, P.O. Box 305, Khartoum, Sudan [SUDAN].

67. KORDOFAN COMPANY, Khartoum, Sudan [SUDAN].

68. KRIKAH INDUSTRIES GROUP, P.O. Box 755, Khartoum North, Sudan [SUDAN].

69. LEATHER INDUSTRIES CORPORATION (a.k.a. LEATHER INDUSTRIES TANNERIES), P.O. Box 1639, Khartoum, Sudan [SUDAN].

70. MALUT SUGAR FACTORY, Malut, Sudan [SUDAN].

71. MANGALA SUGAR FACTORY, Mangala, Sudan [SUDAN].

72. MASPIO CEMENT CORPORATION, P.O. Box 96, Atbara, Sudan [SUDAN].

73. MAY ENGINEERING COMPANY, P.O. Box 97, Khartoum, Sudan; c/o ENGINEERING EQUIPMENT CORPORATION, undetermined [SUDAN].

74. MILITARY COMMERCIAL CORPORATION, P.O. Box 221, Khartoum, Sudan [SUDAN].

75. MODERN ELECTRONIC COMPANY, Khartoum, Sudan [SUDAN].

76. MODERN LAUNDRY BLUE FACTORY (a.k.a. THE MODERN LAUNDRY BLUE FACTORY), P.O. Box 2241, Khartoum, Sudan [SUDAN].

77. MODERN PLASTIC & CERAMICS INDUSTRIES COMPANY (a.k.a. MODERN PLASTIC AND CERAMICS INDUSTRIES COMPANY), Khartoum, Sudan [SUDAN].

78. NATIONAL CIGARETTES CO. LTD., P.O. Box 2083, Khartoum, Sudan; and all other branches in Sudan [SUDAN].

79. NATIONAL COTTON AND TRADE COMPANY, P.O. Box 1552, Khartoum, Sudan [SUDAN].

80. NATIONAL ELECTRICITY CORPORATION, P.O. Box 1380, Khartoum, Sudan [SUDAN].

81. NATIONAL REINSURANCE COMPANY (SUDAN) LIMITED, P.O. Box 443, Khartoum, Sudan [SUDAN].

82. NEW HAIFA SUGAR FACTORY, Kashm el Girba, Sudan [SUDAN].

83. NEW HALFA SUGAR FACTORY COMPANY LIMITED (a.k.a. NEW HALFA SUGAR COMPANY), El Gamaa Street (Aljama Street), New Halfa, P.O. Box 511/3047, Khartoum, Sudan; Email Address sukar@sudanmail.net [SUDAN].

84. NEW KHARTOUM TANNERY, P.O. Box 17, Khartoum, Sudan [SUDAN].

85. NORTHWEST SENNAR SUGAR FACTORY, Northwest Sennar, Sudan [SUDAN].

86. OIL CORPORATION, P.O. Box 64, Khartoum, Sudan [SUDAN].

87. OMDURMAN SHOE FACTORY, Omdurman, Sudan [SUDAN].

88. PETROHELP PETROLEUM COMPANY LIMITED, Building No. 20, Street No. 42, Al Riyadh Area, P.O. Box 44690, Khartoum, Sudan [SUDAN].

89. PETROLEUM GENERAL ADMINISTRATION, P.O. Box 2649, Khartoum, Sudan [SUDAN].

90. PORT SUDAN COTTON AND TRADE COMPANY (a.k.a. PORT SUDAN COTTON COMPANY), P.O. Box 590, Khartoum, Sudan; P.O. Box 261, Port Sudan, Sudan [SUDAN].

91. PORT SUDAN DUTY FREE SHOP, Port Sudan, Sudan [SUDAN].

92. PORT SUDAN EDIBLE OILS STORAGE CORPORATION, P.O. Box 429, Port Sudan, Sudan [SUDAN].

93. PORT SUDAN REFINERY LIMITED, P.O. Box 354, Port Sudan, Sudan [SUDAN].

94. PORT SUDAN SPINNING FACTORY, Port Sudan, Sudan [SUDAN].

95. POSTS AND TELEGRAPHS PUBLIC CORPORATION, Khartoum, Sudan [SUDAN].

96. PUBLIC CORPORATION FOR BUILDING AND CONSTRUCTION, P.O. Box 2110, Khartoum, Sudan [SUDAN].

97. PUBLIC CORPORATION FOR IRRIGATION AND EXCAVATION, P.O. Box 619, Khartoum, Sudan; P.O. Box 123, Wad Medani, Sudan [SUDAN].

98. PUBLIC CORPORATION FOR OIL PRODUCTS AND PIPELINES, Khartoum, Sudan [SUDAN].

99. PUBLIC ELECTRICITY AND WATER CORPORATION (a.k.a. CENTRAL ELECTRICITY AND WATER CORPORATION), P.O. Box 1380, Khartoum, Sudan [SUDAN].

100. RABAK OIL MILL, P.O. Box 2105, Khartoum, Sudan [SUDAN].

101. RAINBOW FACTORIES, P.O. Box 1768, Khartoum, Sudan [SUDAN].

102. RAM ENERGY COMPANY LIMITED, Altiyadh Street 131/Almashtal Street, Block 12, House No. 87, P.O. Box 802, Khartoum, Sudan [SUDAN].

103. REA SWEET FACTORY, P.O. Box 1027, Khartoum, Sudan [SUDAN].

104. RED SEA HILLS MINERALS COMPANY, P.O. Box 1034, Khartoum, Sudan; c/o SUDANESE MINING CORPORATION, undetermined [SUDAN].

105. RED SEA STEVEDORING, P.O. Box 215, Khartoum, Sudan; P.O. Box 17, Port Sudan, Sudan [SUDAN].

106. REFRIGERATION AND ENGINEERING IMPORT COMPANY, P.O. Box 1092, Khartoum, Sudan [SUDAN].

107. ROADS AND BRIDGES PUBLIC CORPORATION, P.O. Box 756, Khartoum, Sudan [SUDAN].

108. SACKS FACTORY (a.k.a. PLASTIC SACKS FACTORY), P.O. Box 2328, Khartoum, Sudan [SUDAN].

109. SENNAR SUGAR COMPANY LIMITED, P.O. Box 511, Khartoum, Sudan; Email Address sukar@sudanmail.net [SUDAN].

110. SHEIKAN INSURANCE AND REINSURANCE COMPANY LIMITED (a.k.a. SHEIKAN INSURANCE COMPANY), Al Souq Al Arabi, Sheikan Building, Khartoum SU001, P.O. Box 10037, Khartoum, Sudan; Email Address sheikan@sudanmail.net [SUDAN].

111. SHEREIK MICA MINES COMPANY (a.k.a. SHERIEK MICA PROJECT), P.O. Box 1034, Khartoum, Sudan; c/o SUDANESE MINING CORPORATION, undetermined [SUDAN].

112. SILOS AND STORAGE CORPORATION, P.O. Box 1183, Khartoum, Sudan [SUDAN].

113. SPINNING AND WEAVING CORPORATION, P.O. Box 795, Khartoum, Sudan [SUDAN].

114. SRC (a.k.a. SUDAN RAILWAYS CORPORATION), P.O. Box 43, Bara, Sudan; Babanousa, Sudan; Khartoum, Sudan; Kosti, Sudan; Port Sudan, Sudan [SUDAN].

115. SRDC (a.k.a. SUDAN RURAL DEVELOPMENT COMPANY LIMITED), P.O. Box 2190, Khartoum, Sudan [SUDAN].

116. STATE CORPORATION FOR CINEMA, P.O. Box 6028, Khartoum, Sudan [SUDAN].

117. STATE TRADING COMPANY (a.k.a. STATE TRADING CORPORATION), P.O. Box 211, Khartoum, Sudan [SUDAN].

118. SUDAN ADVANCED RAILWAYS, Khartoum, Sudan [SUDAN].

119. SUDAN AIR (a.k.a. SUDAN AIRWAYS), P.O. Box 253, Khartoum, Sudan; Bahrain; Chad; Egypt; Ethiopia; Germany; Greece; Italy; Kenya; Kuwait; Nigeria; Saudi Arabia; Uganda; United Arab Emirates; United Kingdom; 211 East 43rd Street, New York, NY 10017, United States; 199 Atlantic Avenue, Brooklyn, NY 11201-5606, United States [SUDAN].

120. SUDAN COTTON COMPANY, Khartoum, Sudan [SUDAN].

121. SUDAN COTTON COMPANY LIMITED, P.O. Box 1672, Khartoum, Sudan [SUDAN].

122. SUDAN DEVELOPMENT CORPORATION, Street 21, P.O. Box 710, Khartoum, Sudan [SUDAN].

123. SUDAN EXHIBITION AND FAIRS CORPORATION, P.O. Box 2366, Khartoum, Sudan [SUDAN].

124. SUDAN GEZIRA BOARD (a.k.a. GEZIRA SCHEME), Khartum Gezira Scheme Building, 39th Street, P.O. Box 884, Khartoum, Sudan [SUDAN].

125. SUDAN MASTER TECHNOLOGY (a.k.a. GIAD INDUSTRIAL CITY; a.k.a. GIAD INDUSTRIAL GROUP; a.k.a. SUDAN MASTER TECH), SMT Building, Gamhuria Street, GIAD Industrial Complex, P.O. Box 10782, Khartoum, SU001, Sudan; Web site www.sudanmaster.com; Email Address info@sudanmaster.com [SUDAN].

126. SUDAN NATIONAL BROADCASTING CORPORATION (a.k.a. SUDAN RADIO & TV CORP.; a.k.a. SUDAN RADIO AND TV CORP.; a.k.a. SUDAN T.V. CORPORATION), P.O. Box 1094, Omdurman, Sudan [SUDAN].

127. SUDAN OIL CORPORATION, P.O. Box 2, Khartoum North, Sudan [SUDAN].

128. SUDAN OIL SEEDS COMPANY LIMITED, P.O. Box 167, Khartoum, Sudan; Nyala, Sudan; Obied, Sudan; Port Sudan, Sudan; Tandalty, Sudan [SUDAN].

129. SUDAN SOAP CORPORATION, P.O. Box 23, Khartoum North, Sudan [SUDAN].

130. SUDAN TEA COMPANY, LTD., P.O. Box 1219, Khartoum, Sudan [SUDAN].

131. SUDAN TELECOMMUNICATIONS COMPANY LIMITED (a.k.a. SUDATEL), 9th Floor, Sudatel Tower, Nile Street, Khartoum, Sudan; Sudatel Tower, Al Horriya Street, P.O. Box 11155, Khartoum, Sudan; Web site www.sudatel.net/en; Email Address info@sudatel.net [SUDAN].

132. SUDAN WAREHOUSING COMPANY, P.O. Box 215, Khartoum, Sudan; P.O. Box 17, Port Sudan, Sudan; El Obeid, Sudan; Gedarit, Sudan; Juba, Sudan; Kosti, Sudan; Sennar, Sudan; Wad Medani, Sudan [SUDAN].

133. SUDANESE COMPANY FOR BUILDING AND CONSTRUCTION LIMITED, P.O. Box 2110, Khartoum, Sudan [SUDAN].

134. SUDANESE ESTATES BANK, Al-Baladiya Avenue, P.O. Box 309, Khartoum, Sudan [SUDAN].

135. SUDANESE FREE ZONES AND MARKETS COMPANY (a.k.a. SFZ), P.O. Box 1789, Khartoum, Sudan; Chad; Saudi Arabia; Turkey; United Arab Emirates [SUDAN].

136. SUDANESE INTERNATIONAL TOURISM COMPANY, P.O. Box 7104, Khartoum, Sudan; c/o TOURISM AND HOTELS CORPORATION, undetermined [SUDAN].

137. SUDANESE MINING CORPORATION, P.O. Box 1034, Khartoum, Sudan [SUDAN].

138. SUDANESE PETROLEUM CORPORATION, 7th Floor, Al Kuwaitiah Building, El Nile Street, Khartoum, Sudan [SUDAN].

139. SUDANESE REAL ESTATE SERVICES COMPANY, Khartoum, Sudan [SUDAN].

140. SUDANESE SAVINGS BANK, P.O. Box 159, Wad Medani, Sudan [SUDAN].

141. SUDANESE SUGAR PRODUCTION COMPANY LIMITED (a.k.a. SUDANESE SUGAR COMPANY), El Gamaa Street (Aljama Street), Opposite the Authority of Electricity Building, P.O. Box 511, Khartoum, Sudan; P.O. Box 511, Building No. 3-Block No. 7, Alshatte Gharb-Gammaa Avenue, Khartoum, Sudan; Email Address sukar@sudanmail.net [SUDAN].

142. SUDAPET LTD. (a.k.a. SUDAN PETROLEUM COMPANY LIMITED; a.k.a. SUDAPET), El Nil Street, Khartoum, Sudan [SUDAN].

143. SUGAR AND DISTILLING INDUSTRY CORPORATION (a.k.a. SUGAR AND DISTILLING CORPORATION), New Mustafa El Amin Building, Barlaman Avenue, P.O. Box 511, Khartoum, Sudan [SUDAN].

144. TAHEER PERFUMERY CORPORATION, P.O. Box 2241, Khartoum, Sudan [SUDAN].

145. TAHREER PERFUMERY CORPORATION, EL, Omdurman, Sudan [SUDAN].

146. TEA PACKETING AND TRADING COMPANY, P.O. Box 369, Khartoum, Sudan [SUDAN].

147. TOURISM AND HOTELS CORPORATION, P.O. Box 7104, Khartoum, Sudan; Ed Damer, Sudan; El Fasher, Sudan; Khartoum Airport, Sudan; Port Sudan, Sudan [SUDAN].

148. WAD MADANI DUTY FREE SHOP, Wad Madani, Sudan [SUDAN].

149. WAFRA CHEMICALS & TECHNO-MEDICAL SERVICES LIMITED (a.k.a. WAFRA CHEMICALS AND TECHNO-MEDICAL SERVICES LIMITED), Khartoum, Sudan [SUDAN].

150. WAFRA PHARMA LABORATORIES (a.k.a. WAFRA PHARMACEUTICALS; a.k.a. WAFRAPHARMA LABORATORIES), Main Street, P.O. Box 2032, Omdurman, Sudan; Email Address waframed@sudanmail.net [SUDAN].

151. WAU FRUIT AND VEGETABLE CANNING FACTORY, P.O. Box 110, Wau, Sudan [SUDAN].

152. WHITE NILE BATTERY COMPANY, Khartoum, Sudan [SUDAN].

153. WHITE NILE BREWERY, P.O. Box 1378, Khartoum, Sudan [SUDAN].

154. WHITE NILE TANNERY, P.O. Box 4078, Khartoum, Sudan [SUDAN].

155. NILE CEMENT COMPANY LIMITED, P.O. Box 1502, Khartoum, Sudan; Factories at Rabak, St. 45-47, Khartoum Extension, Sudan [SUDAN].

156. NILE CEMENT FACTORY, Rabak, Sudan; P.O. Box 1502, Khartoum, Sudan [SUDAN].

157. FARMERS COMMERCIAL BANK (f.k.a. FARMERS BANK FOR INVESTMENT & RURAL DEVELOPMENT; a.k.a. FARMERS BANK FOR INVESTMENT AND RURAL DEVELOPMENT; f.k.a. SUDAN COMMERCIAL BANK), P.O. Box 1116, El Kasr Avenue, Khartoum, Sudan; P.O. Box 22, El Damazin, Sudan; El Fau, Sudan; P.O. Box 182, El Gadaref, Sudan; P.O. Box 1, El Hawata, Sudan; P.O. Box 8, El Nuhud, Sudan; P.O. Box 412, El Obeid, Sudan; P.O. Box 45153, El Suk Elarabi, Sudan; P.O. Box 1174, Gamhoria Avenue, Khartoum, Sudan; P.O. Box 1694, El Suk Elafrangi, Khartoum, Sudan; P.O. Box 384, Khartoum, Sudan; P.O. Box 86, Industrial Area, Khartoum, Sudan; P.O. Box 8127, Khartoum, Sudan; P.O. Box 899, Omdurman, Sudan; Wad Madani, Sudan; P.O. Box 36, New Halfa, Sudan; P.O Box 570, Port Sudan, Sudan [SUDAN].

John E. Smith,
Director, Office of Foreign Assets Control.

[FR Doc. 2017-23090 Filed 10-25-17; 8:45 am]

BILLING CODE 4810-AL-P